DEPARTMENT OF THE TREASURY

Internal Revenue Service

26 CFR Part 301

[REG-103809-03]

RIN 1545-BA56

Disclosure of Return Information to the Department of Agriculture; Correction

AGENCY: Internal Revenue Service (IRS), Treasury.

ACTION: Correction to notice of proposed rulemaking by cross-reference to temporary regulations.

SUMMARY: This document contains a correction to a notice of proposed rulemaking by cross-reference to temporary regulations that were published in the Federal Register on Friday, June 6, 2003 (68 FR 33887), regarding incorporating and clarifying the phrase “returns information reflected on returns” in conformance with the terms of section 6103(j)(5) of the Internal Revenue Code.

FOR FURTHER INFORMATION CONTACT: Christine Irwin at (202) 622-4570 (not a toll-free number).

SUPPLEMENTARY INFORMATION:

Background

The notice of proposed rulemaking by cross-reference to temporary regulations that is the subject of this correction is under section 6103(j)(5) of the Internal Revenue Code.

Need for Correction

As published, the notice of proposed rulemaking by cross-reference to temporary regulations contains an error that may prove to be misleading and are in need of clarification.

Correction of Publication

Accordingly, the publication of the notice of proposed rulemaking by cross-reference to temporary regulations (REG-103809-03), that was the subject of FR Doc. 03-14206, is corrected as follows:

1. On page 33887, column 1, in the preamble under the paragraph heading DATES, third line, the language “be received by August 1, 2003” is corrected to read “be received by September 8, 2003.”.

Cynthia E. Grisgsby,
Chief, Regulations Unit, Associate Chief Counsel (Procedure and Administration).

[FR Doc. 03-17524 Filed 7-9-03; 8:45 am]

BILLING CODE 4830-01-P